DEPARTMENT OF ENERGY

Federal Energy Regulatory Commission

Combined Notice of Filings #1

Take notice that the Commission received the following electric rate filings:

Docket Numbers: ER12-1586-002.

Applicants: Southwest Power Pool, Inc.

Description: Compliance Filing—Rate Schedule 13—Western Area Power Administration JOA to be effective 6/20/2012.

Filed Date: 10/18/12.

Accession Number: 20121018-5109.

Comments Due: 5 p.m. ET 11/8/12.

Docket Numbers: ER12-1630-001.

Applicants: California Independent System Operator Corporation.

Description: 2012-10-19 Compliance Filing in Docket No. ER12-1630 to be effective 5/1/2013.

Filed Date: 10/19/12.

Accession Number: 20121019-5102.

Comments Due: 5 p.m. ET 11/9/12.

Docket Numbers: ER12-2591-001.

Applicants: Monongahela Power Company.

Description: Compliance to filing 20 to be effective 9/1/2012.

Filed Date: 10/19/12.

Accession Number: 20121019-5090.

Comments Due: 5 p.m. ET 11/9/12.

Docket Numbers: ER13-157-000.

Applicants: New York State Electric & Gas Corporation.

Description: Bath Fairview Attachment C Annual Update to be effective 1/1/2013.

Filed Date: 10/18/12.

Accession Number: 20121018-5102.

Comments Due: 5 p.m. ET 11/8/12.

Docket Numbers: ER13-158-000.

Applicants: New York State Electric & Gas Corporation.

Description: NYSEG-DCEC Attachment C Annual Update to be effective 1/1/2013.

Filed Date: 10/18/12.

Accession Number: 20121018-5107.

Comments Due: 5 p.m. ET 11/8/12.

Docket Numbers: ER13-159-000.

Applicants: Imperial Valley Solar 1, LLC.

Description: Co-Tenancy and Shared Use Agreement Cancellation to be effective 10/19/2012 under ER13-159 Filing Type: 270.

Filed Date: 10/19/12.

Accession Number: 20121019-5089.

Comments Due: 5 p.m. ET 10/23/12.

Docket Numbers: ER13-160-000.

Applicants: Niagara Mohawk Power Corporation, New York Independent System Operator, Inc.

Description: Niagara Mohawk Power Corporation submits tariff filing per 35.13(a)(2)(iii: Interconnection Agreement (LGIA) no. 1916 Among NYISO, NiMo and Allegany Wind to be effective 10/5/2012.

Filed Date: 10/19/12.

Accession Number: 20121019-5137.

Comments Due: 5 p.m. ET 11/9/12.

Docket Numbers: ER13-161-000.

Applicants: Puget Sound Energy, Inc.

Description: Puget Sound Energy, Inc. submits tariff filing per 35.13(a)(2)(iii: BPA NITSA for Blaine No 491 to be effective 10/19/2012.

Filed Date: 10/19/12.

Accession Number: 20121019-5140.

Comments Due: 5 p.m. ET 11/9/12.

Take notice that the Commission received the following public utility holding company filings:

Docket Numbers: PH13-2-000.

Applicants: Valener Inc.

Description: Notice of Material Change in Facts of Valener Inc. under PH13-2.

Filed Date: 10/18/12.

Accession Number: 20121018-5093.

Comments Due: 5 p.m. ET 11/8/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2012.
Nathaniel J. Davis, Sr.,
Deputy Secretary.

[FR Doc. 2012-26722 Filed 10-30-12; 8:45 am]

BILLING CODE 6717-01-P